DEPARTMENT OF DEFENSE

Department of the Navy

Notice of Intent To Prepare an Environmental Impact Statement for Purchasing Land and Establishing a Naval Special Warfare Riverine and Jungle Training Range in the Easement Buffer of the National Aeronautical and Space Administration's John C. Stennis Space Center, Hancock County, MS, and to Announce Public Scoping Meetings

AGENCY: Department of the Navy, DoD.

ACTION: Notice.

SUMMARY: Pursuant to section (102)(2)(c) of the National Environmental Policy Act (NEPA) of 1969, and the regulations implemented by the Council on Environmental Quality (40 CFR parts 1500-1508), the Department of Navy (Navy) announces its intent to prepare an Environmental Impact Statement (EIS) to evaluate the potential environmental consequences of purchasing 5,200 acres of privately owned property located within the northwestern acoustic buffer zone at the National Aeronautical and Space Administration's John C. Stennis Space Center (Stennis Space Center) in Hancock County, Mississippi, and using the acquired acreage as a Naval Special Warfare Riverine and Jungle Training Range. Live-fire training on the range would use small arms Short Range Training Ammunition (SRTA) that has a plastic, non-lead, non-explosive projectile, and a limited flight profile.

DATES AND ADDRESSES: Public scoping meetings will be held in Hancock County, MS and St. Tammany Parish, LA to receive oral and written comments on environmental concerns that should be addressed in the EIS. Public scoping open houses will be held on Tuesday, March 18, 2003, from 4 p.m. to 7 p.m. at Hancock High School, 7084 Stennis Airport Dr., Kiln, MS and Thursday, March 20, 2003, from 4 p.m. to 7 p.m. at Slidell City Auditorium, 2056 2nd St., Slidell, LA.

FOR FURTHER INFORMATION CONTACT: Mr. Richard Davis, Southern Division, Naval Facilities Engineering Command, PO Box 190010, North Charleston, SC 29419-9010, telephone (843) 820-5589, facsimile (843) 820-7472.

SUPPLEMENTARY INFORMATION: The proposed action will provide Special Operations Forces with reliable and priority access to a training range characterized by a permanent riverine and jungle environment and where live-fire exercises using SRTA can be conducted adjacent to the Stennis Space Center. Establishment of this range would meet the need of Special Operations Forces to train under realistic combat scenarios, thereby increasing their readiness to support national defense objectives and reducing combat casualties. It would also provide a range where Special Operations Forces could deploy the maritime unmanned aerial vehicle and conduct exercises using helicopters, boats, and vehicles.

Alternatives to be considered in the EIS address the type and tempo of training to be conducted on the range. The basic range alternative includes small arms training with SRTA along the reaches of the Pearl and Mikes River. Enhanced training alternatives will also be analyzed, which will also provide for the additional use of maritime unmanned aerial vehicles and helicopter insertions and extractions at variable tempos (tentatively either 36 or 60 events annually). A discussion of preliminary range locations will be included and the alternative of no action will also be addressed. In addition, the EIS may also consider other alternatives should they be defined during the public scoping process and meet established training criteria.

The EIS will evaluate the environmental effects associated with identified alternatives. Issues to be addressed will include, but not be limited to: Geology; biotic communities, including threatened and endangered species; water resources; noise; air quality; non-military land uses and access; cultural resources; transportation and waterway navigation; and water and land contaminants. The analysis will include an evaluation of the direct, indirect, short-term, and cumulative impacts. No decision will be made to implement any alternative until the NEPA process is completed.

The Navy is initiating the scoping process to identify community concerns and local issues that should be addressed in the EIS. Federal, state, and local agencies, and interested persons are encouraged to provide oral and/or written comments to the Navy to identify specific issues or topics of environmental concern that should be addressed in the EIS. Written comments must be postmarked by April 21, 2003, and should be mailed to: Special Warfare Training Range EIS, c/o Commanding Officer, Southern Division, Naval Facilities Engineering Command, P.O. Box 190010, North Charleston, South Carolina 29419-9010, Attn: Code ES12/RD (Richard A. Davis), telephone (843) 820-5589, facsimile (843) 820-7472, e-mail: DavisRA@efdsouth.navfac.navy.mil.

Dated: February 25, 2003.
R.E. Vincent II,
Lieutenant Commander, Judge Advocate General's Corps, U.S. Navy, Federal Register Liaison Officer.

[FR Doc. 03-4871 Filed 2-28-03; 8:45 am]

BILLING CODE 3810-FF-P